DEPARTMENT OF DEFENSE

Office of the Secretary

Meetings of the Pentagon Memorial Design Competition Jury

AGENCY: Department of Defense, Director, Administration and Management.

ACTION: Notice of advisory committee meetings.

SUMMARY: The Pentagon Memorial Design Competition Jury will meet in closed sessions on September 30, October 1, and October 2, 2002. The Jury was chartered on August 26, 2002, by the Department of Defense to review and evaluate the designs submitted in response to the Baltimore District, Corps of Engineers announcement of the design competition for a Pentagon Memorial to the victims of the September 11, 2001 terrorist attack on the Pentagon.

In accordance with the Federal Advisory Committee Act, Public Law No. 92-463, as amended (5 U.S.C. App II (1982), discussion of procurement sensitive information, as covered by 5 U.S.C. 552b(c)(4)(1988)), will take place throughout the meetings, and that, accordingly, the meetings will be closed to the public.

DATES: Monday through Wednesday, September 30—October 2, 8 a.m.-5 p.m.

ADDRESSES: National Building Museum, 401 F Street NW., Washington, DC 20001.

FOR FURTHER INFORMATION CONTACT: Jerry Shiplett, Special Assistant to the Director, Real Estate and Facilities, Washington Headquarters Services, on 703-614-9203.

Dated: September 4, 2002.
L.M. Bynum,
Alternate Federal Register Liaison Officer, Department of Defense.

[FR Doc. 02-23030 Filed 9-10-02; 8:45 am]

BILLING CODE 5001-08-M